DEPARTMENT OF JUSTICE

National Institute of Justice

[OJP(NIJ)-1270]

Announcement of the Availability of the National Institute of Justice Solicitation for Evaluation of the Comprehensive Indian Resources for Community and Law Enforcement (CIRCLE) Project

AGENCY: Office of Justice Programs, National Institute of Justice, Justice.

ACTION: Notice of solicitation.

SUMMARY: Announcement of the availability of the National Institute of Justice solicitation “Evaluation of the Comprehensive Indian Resources for Community and Law Enforcement (CIRCLE) Project.”

DATES: Proposals must be received by 5 p.m. ET, Friday, June 23, 2000.

ADDRESSES: National Institute of Justice, 810 Seventh Street, NW, Washington, DC 20531.

FOR FURTHER INFORMATION CONTACT: For a copy of the solicitation, please call NCJRS 1-800-851-3420. For general information about application procedures for solicitations, please call the U.S. Department of Justice Response Center at 1-800-421-6770.

SUPPLEMENTARY INFORMATION:

Authority

This action is authorized under the Omnibus Crime Control and Safe Streets Act of 1968, Sections 201-03, as amended, 42 U.S.C. 3721-23 (1994).

Background

The National Institute of Justice (NIJ) is soliciting proposals to conduct a participatory evaluation of the Comprehensive Indian Resources for Community and Law Enforcement (CIRCLE) Project, a U.S. Department of Justice initiative designed to empower Native American Communities to more effectively fight crime, violence, and substance abuse.

The CIRCLE Project is based on two key principles:

(1) The CIRCLE tribal communities will play the lead role, with assistance from the Federal government, in developing and implementing crime, violence, and drug control efforts.

(2) The problems to be addressed require a comprehensive approach that incorporates coordinated and multi-disciplinary efforts.

This evaluation will focus on the development, implementation, and outcomes of the CIRCLE Project at three sites: Oglala Sioux Tribe, Northen Cheyenne Tribe, and Zuni Pueblo.

An award totaling up to $270,000 will be made available for this first 18 month phase of the CIRCLE Project Evaluation.

Interested organizations should call the National Criminal Justice Reference Service (NCJRS) at 1-800-851-3420 to obtain a copy of “Evaluation of the Comprehensive Indian Resources for Community and Law Enforcement (CIRCLE) Project” (refer to document no. SL000417). For World Wide Web access, connect to either NIJ at http://www.ojp.usdoj.gov/nij/funding.htm, or the NCJRS Justice Information Center at http://www.ncjrs.org/fedgrant.htm#nij.

Dated: April 28, 2000.
Julie E. Samuels,
Acting Director, National Institute of Justice.

[FR Doc. 00-11129 Filed 5-3-00; 8:45 am]

BILLING CODE 4410-18-P